DEPARTMENT OF HEALTH AND HUMAN SERVICES

Health Resources and Services Administration

[OMB No. 0906-xxxx-New]

Agency Information Collection Activities: Proposed Collection: Public Comment Request Information Collection Request Title: Optimizing Virtual Care Grant Program Performance Measures

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than August 23, 2022.

ADDRESSES: Submit your comments to paperwork@hrsa.gov or by mail to the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the acting HRSA Information Collection Clearance Officer at (301) 443-9094.

SUPPLEMENTARY INFORMATION: When submitting comments or requesting information, please include the information collection request title for reference.

Information Collection Request Title: Optimizing Virtual Care Grant Program Performance Measures, OMB No. 0906-xxxx—New.

Abstract: The Health Center Program and supplemental awards for health centers are authorized by Section 330(d) of the Public Health Service Act (42 U.S.C. 254b(d)). Notably, HRSA is authorized to make supplemental awards for health centers to “implement evidence-based models for increasing access to high-quality primary care services, which may include models related to expanding the use of telehealth and technology-enabled collaborative learning and capacity building models.” Under the Optimizing Virtual Care (OVC) grant program, 29 high-performing health centers received 2-year one-time funding supplemental awards to increase health care access and quality for underserved populations through virtual care such as telehealth, remote patient monitoring, digital patient tools, and health information technology platforms. Specifically, award recipients will use OVC funding to develop and implement innovative evidence-based strategies with the potential to be adapted, leveraged, and scaled across the Health Center Program to increase access to care and improve clinical quality by optimizing the use of virtual care with a specific focus on medically underserved communities and populations.

The goal of the OVC grant program is to continue to support innovation that began during the COVID-19 pandemic, when health centers quickly expanded their use of virtual care to maintain access to essential primary care services for underserved communities. HRSA-funded health centers serve medically underserved populations facing barriers to virtual care access, such as low digital literacy, low connectivity capabilities, or limited technology access. The OVC grant recipients will serve as a model for how to increase equitable virtual care, generating and refining strategies that can be adapted and scaled across the Health Center Program.

Need and Proposed Use of the Information: The information collected on OVC grant recipient activities and performance will help HRSA demonstrate, adapt, assess, and disseminate promising practices, strategies, and novel models of virtual care across the nation's health centers. The information will support an assessment that yields:

• Data on how to optimize the use of virtual care in the Health Center Program to enhance access to care and improve clinical quality for medically underserved communities and populations.

• Information on how to adapt, leverage, and scale up the OVC grant program models across other HRSA funding opportunities.

• Information on strategies to promote and scale virtual care innovations focused on increasing health equity for Health Center Program patients.

The assessment will include descriptive analyses of grant recipient activities and performance, including analyses of trends over time. The analyses will inform recommendations for performance measures that HRSA could scale across the Health Center Program and across other grant programs.

The grant recipient activities related to implementation of novel models of virtual care, including aggregate data on patients served and the services they received, will be captured via monthly progress reports. A set of health center performance measures will be captured in a bi-annual progress report and will provide insight into health equity and virtual care. Grant recipients will collect and report performance measures based on project goals and objectives that span four key population health and clinical domain areas, including (1) Increased Access to Care and Information; (2) Improve Clinical Quality and Health Outcomes; (3) Enhance Patient Care Coordination; and (4) Promote Health Equity.

Likely Respondents: Respondents will be the 29 health centers that received one-time funding supplemental awards through the Optimizing Virtual Care grant program.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
OVC Monthly Progress Report | 29 | 12 | 348 | 2 | 696
OVC Biannual Measures Report | 29 | 2 | 58 | 48 | 2,784
Total | 29 |  | 406 |  | 3,480

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2022-13526 Filed 6-23-22; 8:45 am]

BILLING CODE 4165-15-P